DEPARTMENT OF HOMELAND SECURITY

Federal Emergency Management Agency

44 CFR Part 67

[Docket ID FEMA-2010-0003; Internal Agency Docket No. FEMA-B-1158]

Proposed Flood Elevation Determinations

AGENCY: Federal Emergency Management Agency, DHS.

ACTION: Proposed rule; correction.

SUMMARY: On December 16, 2010, FEMA published in the Federal Register a proposed rule that contained an erroneous table. This notice provides corrections to that table, to be used in lieu of the information published at 75 FR 78654. The table provided here represents the flooding sources, location of referenced elevations, effective and modified elevations, and communities affected for the City of Newport News, Virginia. Specifically, it addresses the flooding sources Newmarket Creek, Newmarket Creek Tributary, Stoney Run, Stoney Run-Colony Pines Branch, and Stoney Run-Denbigh Branch.

DATES: Comments are to be submitted on or before November 26, 2012.

ADDRESSES: You may submit comments, identified by Docket No. FEMA-B-1158, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 78654, in the December 16, 2010, issue of the Federal Register, FEMA published a table under the authority of 44 CFR 67.4. The table, entitled “City of Newport News, Virgina” addressed the flooding sources Newmarket Creek, Newmarket Creek Tributary, Stoney Run, Stoney Run-Colony Pines Branch, and Stoney Run-Denbigh Branch. That table contained inaccurate information as to the location of referenced elevation, effective and modified elevation in feet, and/or communities affected for the flooding sources Stoney Run-Colony Pines Branch and Stoney Run-Denbigh Branch. In this notice, FEMA is publishing a table containing the accurate information, to address these prior errors. The information provided below should be used in lieu of that previously published.

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Newport News, Virginia
Virginia | City of Newport News | Newmarket Creek | Approximately 0.45 mile downstream of Hampton Roads Center Parkway | None | +18
|  |  | Approximately 0.94 mile upstream of Hampton Roads Center Parkway | None | +21
| City of Newport News | Newmarket Creek | Approximately 1,287 feet downstream of Harpersville Road | None | +24
|  |  | Approximately 0.56 mile upstream of Harpersville Road | None | +26
| City of Newport News | Newmarket Creek Tributary | Approximately 765 feet downstream of Agusta Drive | None | +22
|  |  | Approximately 167 feet upstream of Agusta Drive | None | +22
| City of Newport News | Stoney Run | Approximately 0.8 mile downstream of Old Courthouse Way | +7 | +8
|  |  | Approximately 0.56 mile upstream of Woodside Lane | None | +47
| City of Newport News | Stoney Run-Colony Pines Branch | Approximately 776 feet downstream of Richneck Road | None | +27
|  |  | Approximately 1,450 feet upstream of Windsor Castle Drive | None | +40
| City of Newport News | Stoney Run-Denbigh Branch | Just downstream of Richneck Road | None | +27
|  |  | Just downstream of McManus Boulevard | None | +33
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Newport News
Maps are available for inspection at The Department of Engineering, 2400 Washington Avenue, Newport News, VA 23607.

(Catalog of Federal Domestic Assistance No. 97.022, “Flood Insurance.”)

Dated: August 8, 2012.
Sandra K. Knight,
Deputy Associate Administrator for Mitigation, Department of Homeland Security, Federal Emergency Management Agency.

[FR Doc. 2012-20985 Filed 8-24-12; 8:45 am]

BILLING CODE 9110-12-P